DEPARTMENT OF ENERGY

Federal Energy Regulatory Commission

[Docket No. RP01-455-000]

Columbia Gulf Transmission Company; Notice of Proposed Change in Gas Tariff

June 14, 2000.

Take notice that on June 8, 2001, Columbia Gulf Transmission Company (Columbia Gulf) tendered for filing as part of its FERC Gas Tariff, Second Revised Volume No. 1, the following revised tariff sheets, bearing a proposed effective date of July 9, 2001:

Sixth Revised sheets No. 125

First Revised Sheet No. 287

Original Sheet No. 288

Columbia Gulf states that the instant filing is being made to comply with the Order on Remand in docket No. CP95-218-002 (Remand Order) issued by the Commission on December 14, 2000. The “Remand Order” revised the commission's previous policy requiring pipelines to seek case-by-case approval before acquiring offsystem capacity and permitting new acquisitions of offsystem capacity by pipelines to be made without pre-approval. In its order denying clarification and rehearing issued April 12, 2001, in Docket No. CP95-218-004, the Commission clarified that pipelines intending to transport gas for others on acquired offsystem capacity must receive a waiver of the “shipper must have title” policy prior to commencing the service. The Commission stated that a pipeline need not seek such waiver on a case-by-case basis; rather it may make a single filing to amend its tariff to include a general statement that it will only transport for other using offsystem capacity pursuant to its existing tariff and rates and to request a generic waiver of the “shipper must have title” policy. The purpose of the instant filing is to include general statement in Columbia Gulf's tariff and to request such waiver.

Columbia Gulf states further that copies of this filing have been mailed to all of its customers and affected state regulatory commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http:///www.ferc.fed.us/online.rims.htm (call 202-208-2222 for assistance). Comments, protests, and interventions may be filed electronically via the internet in lieu of paper. See, 18 CFR 385.2001(a)(1)(iii) and the instructions on the Commission's web site at http:///www.ferc.fed.us/efi/doorbell.htm.

Linwood A. Watson, Jr.,
Acting Secretary.

[FR Doc. 01-15512 Filed 6-19-01; 8:45 am]

BILLING CODE 6717-01-M